ENVIRONMENTAL PROTECTION AGENCY

[ER-FRL-6250-7]

Environmental Impact Statements; Notice of Availability

RESPONSIBLE AGENCY: Office of Federal Activities, General Information (202) 564-7167 OR www.epa.gov/oeca/ofa Weekly receipt of Environmental Impact Statements Filed January 24, 2000 Through January 28, 2000 Pursuant to 40 CFR 1506.9.

EIS No. 000020, Final EIS, COE, FL, Lake Okeechobee Regulation Schedule Study, To Maintain or Improve Existing Water Storage, St. Lucie and Caloosahatchee River Estuaries, FL , Due: March 6, 2000, Contact: Elmar Kurzbach (904) 232-2325.

EIS No. 000021, Final EIS, USN, NV, Fallon Naval Air Station (NAS), Proposal for the Fallon Range Complex Requirements, Federal and Private Lands, Churchill, Eureka, Lander, Mineral, Nye and Washoe Counties, NV, Due: March 6, 2000, Contact: Terri Knutson (775) 885-6156.

EIS No. 000022, Final EIS, DOE, NM, The Conveyance and Transfer of Certain Land Tracts Administered by the US DOE and Located at Los Alamos National Laboratory, Los Alamos and Santa Fe Counties, NM, Due: March 6, 2000, Contact: Elizabeth Withers (505) 667-8690.

EIS No. 000023, Draft EIS, SFW, CA, San Diequito Wetland Restoration Project, Implementation, Comprehensive Restoration Plan, COE Section 404 Permit, Cities of Del Mar and San Diego, San Diego County, CA, Due: March 20, 2000, Contact: Jack Fancher (760) 431-9440.

EIS No. 000024, Draft EIS, FHW, TX, TX-130 Construction, I-35 of Georgetown to I-10 near Seguin, Funding, COE Section 404 Permit, Williamson, Travis, Caldwell, Guadalupe Counties, TX, Due: March 20, 2000, Contact: Walter Waidelich (512) 916-5988.

EIS No. 000025, Final EIS, FHW, AR, MS, AR, Great River Bridge, Construction, US 65 in Arkansas to MS-8 in Mississippi, Funding, COE Section 404 Permit and US Coast Guard Bridge Permit, Desha and Arkansas Counties, AR and Bolivar County, MS, Due: March 6, 2000, Contact: Elizabeth A. Romero (504) 324-5625.

EIS No. 000026, Final EIS, UAF, LA, TX, NM, Realistic Bomber Training Initiative, Improve the B-52 and B-1 Aircrews Mission Training and Maximize Combat Training Time, Barksdale Air Force Base, LA, NM and TX, Due: March 6, 2000, Contact: Brenda Cook (757) 764-9339.

EIS No. 000027, Final EIS, FRC, FL, MS, Florida Gas Transmission Phase IV Expansion Project (Docket No. CP99-94-000), To Deliver Natural Gas to Electric Generator, FL and MS, Due: March 6, 2000, Contact: Paul McKee (202) 208-1088.

Dated: February 1, 2000.
B. Katherine Biggs,
Associate Director, NEPA Compliance Division, Office of Federal Activities.

[FR Doc. 00-2595 Filed 2-3-00; 8:45 am]

BILLING CODE 6560-50-P